DEPARTMENT OF THE INTERIOR

National Park Service

[N6378; NPS-WASO-NAGPRA-NPS0040665; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh (UWO) has completed an inventory of human remains and associated funerary objects and has determined that there is a cultural affiliation between the human remains and associated funerary objects and Indian Tribes or Native Hawaiian organizations in this notice.

DATES: Repatriation of the human remains and associated funerary objects in this notice may occur on or after August 29, 2025.

ADDRESSES: Send written requests for repatriation of the human remains and associated funerary objects in this notice to Adrienne Frie, University of Wisconsin Oshkosh, 800 Algoma Blvd., Oshkosh, WI 54901, email friea@uwosh.edu.

SUPPLEMENTARY INFORMATION: This notice is published as part of the National Park Service's administrative responsibilities under NAGPRA. The determinations in this notice are the sole responsibility of UWO, and additional information on the determinations in this notice, including the results of consultation, can be found in the inventory or related records. The National Park Service is not responsible for the determinations in this notice.

Abstract of Information Available

Based on the information available, human remains representing, at least, one individual have been reasonably identified and were removed from the Sandhill Site (47-JU-0428), Juneau County, WI. In 1966, G. Richard Peske, then instructor at Wisconsin State University—Oshkosh (WSU-O), now University of Wisconsin Oshkosh (UWO), was called to a mound site by Chuck Spindler. Peske's incomplete field notes from August 24, 1966, record that someone had dug into the top of the conical mound, “looking for pots” and “uncovering a burial.” Peske and Spindler conducted four shovel tests around the mound, while also recovering cultural material and human remains from the mound. The five associated funerary objects are one graver, two lots of undecorated grit tempered body sherds, one lot of mammal bone, and one lot of debitage. UWO has no knowledge or record of any potentially hazardous substances used to treat the human remains or associated funerary objects.

Based on the information available, human remains representing, at least, three individuals have been reasonably identified and were removed from the Grignon #1 (47-WN-0118) and Grignon #2 (47-WN-0119) sites, Winnebago County, WI. This site complex was originally investigated by G. Richard Peske in 1966. Later, in the 1970s when Dr. Alaric Faulkner reported the site to the Wisconsin Historical Society, he separated the location into two components which included a village site (Grignon #1 47-WN-0118/BWN-0193) and burial site (Grignon #2 47-WN-0119/BWN-0153). In 2024, collections held by the University of Wisconsin Milwaukee that were removed from Grignon #1 and #2 were legally transferred to the UWO to be included in the repatriation process, per tribal guidance. The 54 associated funerary objects are one lot of ceramics (missing); one post contact Kaolin pipe fragment; four lots of faunal remains; two lots of shell; one turtle shell; one lot of charcoal; one lot of glass; five lots of decorated grit tempered body sherds; three lots of undecorated grit tempered body sherds; five lots of decorated grit tempered rim sherds; one lot of undecorated grit tempered rim sherds; six lots of lithics; one lot of lithic debitage; one lot of lithic debitage and pottery sherds; one projectile point; two lots of post-contact ceramics; one post-contact Kaolin pipe; six lots of decorated shell tempered body sherds; eight lots undecorated shell tempered body sherds; one lot of decorated shell tempered rim sherds; and two lots of undecorated shell tempered rim sherds. UWO has no knowledge or record of any potentially hazardous substances used to treat the human remains or associated funerary objects.

Based on the information available, human remains representing, at least, one individual have been reasonably identified and were removed from the Dowling #1 site (47-WN-0141), Winnebago County, WI. The Dowling #1 site was located as part of the 1972 Middle Fox River Valley Survey, administered by Dr. Alaric Faulkner (University of Wisconsin Oshkosh Assistant Professor) and J.D. Volkman. During a survey of the site, Volkman recovered a collection of lithics, as well as the remains of a human femur. The two associated funerary objects are one chipped stone biface and one lot of debitage. UWO has no knowledge or record of any potentially hazardous substances used to treat the human remains or associated funerary objects.

Cultural Affiliation

Based on the information available and the results of consultation, cultural affiliation is reasonably identified by the geographical location of the human remains and associated funerary objects described in this notice.

Determinations

UWO has determined that:

• The human remains described in this notice represent the physical remains of five individuals of Native American ancestry.

• The 61 objects described in this notice are reasonably believed to have been placed intentionally with or near individual human remains at the time of death or later as part of the death rite or ceremony.

• There is a reasonable connection between the human remains and associated funerary objects described in this notice and the Assiniboine and Sioux Tribes of the Fort Peck Indian Reservation, Montana; Bad River Band of the Lake Superior Tribe of Chippewa Indians of the Bad River Reservation, Wisconsin; Bay Mills Indian Community, Michigan; Cheyenne River Sioux Tribe of the Cheyenne River Reservation, South Dakota; Chippewa Cree Indians of the Rocky Boy's Reservation, Montana; Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Ho-Chunk Nation of Wisconsin; Iowa Tribe of Kansas and Nebraska; Iowa Tribe of Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Oglala Sioux Tribe; Otoe-Missouria Tribe of Indians, Oklahoma; Pokagon Band of Potawatomi Indians, Michigan and Indiana; Prairie Band Potawatomi Nation; Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Santee Sioux Nation, Nebraska; Sault Ste. Marie Tribe of Chippewa Indians, Michigan; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; Turtle Mountain Band of Chippewa Indians of North Dakota; Upper Sioux Community, Minnesota; Winnebago Tribe of Nebraska; and the Yankton Sioux Tribe of South Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 29, 2025. If competing requests for repatriation are received, UWO must determine the most appropriate requestor prior to repatriation. Requests for joint repatriation of the human remains and associated funerary objects are considered a single request and not competing requests. UWO is responsible for sending a copy of this notice to the Indian Tribes and Native Hawaiian organizations identified in this notice.

Authority: Native American Graves Protection and Repatriation Act, 25 U.S.C. 3003, and the implementing regulations, 43 CFR 10.10.

Dated: July 15, 2025.
Mariah Soriano,
Acting Manager, National NAGPRA Program.

[FR Doc. 2025-14376 Filed 7-29-25; 8:45 am]

BILLING CODE 4312-52-P